DEPARTMENT OF VETERANS AFFAIRS

Special Medical Advisory Group; Notice of Meeting

The Department of Veterans Affairs (VA) gives notice under the Federal Advisory Committee Act, 5 U.S.C. App. 2, that the Special Medical Advisory Group will meet on May 1, 2014, in Room 830 at VA Central Office, 810 Vermont Avenue NW., Washington, DC, from 8:30 a.m. to 3 p.m. The meeting is open to the public.

The purpose of the Group is to advise the Secretary of Veterans Affairs and the Under Secretary for Health on the care and treatment of disabled Veterans, and other matters pertinent to the Department's Veterans Health Administration (VHA).

The agenda for the meeting will include discussions on Opioid Safety/Pain Management, Substance Use Disorders, State Prescription Drug Monitoring Programs, Academic Detailing, Interagency Collaboration Panel Discussion, Women Veterans Programs, Ethics Training for Special Government Employees, and Military Sexual Trauma.

No time will be allocated for receiving oral presentations from the public. However, members of the public may submit written statements for review by the Committee to Jennifer Adams, Department of Veterans Affairs, Office of the Principal Deputy Under Secretary for Health (10A), Veterans Health Administration, 810 Vermont Avenue NW., Washington, DC 20420, or by email at Jennifer.adams@va.gov. Because the meeting is being held in a government building, a photo I.D. must be presented at the Guard's Desk as a part of the clearance process. Therefore, you should allow an additional 15 minutes before the meeting begins. Any member of the public wishing to attend the meeting or seeking additional information should contact Ms. Adams at (202) 461-6515 or by email.

Dated: March 26, 2014.
Jelessa Burney,
Federal Advisory Committee Management Officer.

[FR Doc. 2014-07062 Filed 3-28-14; 8:45 am]

BILLING CODE 8320-01-P